DEPARTMENT OF THE INTERIOR

National Park Service

Notice of Inventory Completion: Horner Collection, Oregon State University, Corvallis, OR

AGENCY: National Park Service, Interior.

ACTION: Notice.

Notice is here given in accordance with the Native American Graves Protection and Repatriation Act (NAGPRA), 25 U.S.C. 3003, of the completion of an inventory of human remains in the possession of the Horner Collection, Oregon State University, Corvallis, OR. The human remains were removed from Curry and Lincoln Counties, OR.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Horner Collection, Oregon State University professional staff in consultation with representatives of the Confederated Tribes of the Siletz Reservation, Oregon and the Coquille Tribe of Oregon.

The Museum of Oregon Country, Oregon Agricultural College was renamed the John B. Horner Museum of the Oregon Country in 1936, and became commonly known as the Horner Museum. The Oregon Agricultural College was renamed the Oregon State College in 1937, and became Oregon State University in 1962. The Horner Museum closed in 1995. Currently, cultural items from the Horner Museum are referred to as the Horner Collection, which is owned by, and in the possession of, Oregon State University.

At an unknown time, human remains representing a minimum of one individual were removed from an unknown site near Yachats in Lincoln County, OR. In 1968, the human remains were donated by Mrs. P. Mitchell to the John B. Horner Museum of the Oregon Country. Mrs. Mitchell told museum staff that the human remains were found near Yachats. It is unknown if the human remains were removed by Mrs. Mitchell. No known individual was identified. No associated funerary objects are present.

The human remains have been identified as Native American dating to precontact times based on typical tooth wear. Historical documents, ethnographic sources, and oral history indicate that many of the tribes that are members of the present-day Confederated Tribes of the Siletz Reservation, Oregon have occupied these areas since precontact times, including the Alsea/Siuslaw tribe. The Alsea/Siuslaw tribe represents the Alsea, Lower Umpqua, Siuslaw, Yachats, and Yaquina Native American groups. The Alsea/Siuslaw tribe was a signatory to the Oregon Coast Treaty of 1855. In 1857, the Alsea/Siuslaw were located on the Siuslaw River, Lane County, OR, and their traditional territory extended south to Heceta Head, Lane County, OR (Harris 1858). Yachats is near the border of Lane and Lincoln Counties, OR. The Alsea/Siuslaw tribe's traditional territopry includes both counties. The Alsea/Siuslaw tribe is one of the member tribes of the Confederated Tribes of the Siletz Reservation, Oregon and by 1875, the Alsea/Siuslaw tribe was residing on the Siletz Reservation. Therefore, the Confederated Tribes of the Siletz Reservation, Oregon have a connection to the area nearYachats that includes both Lane and Lincoln Counties, OR. The Alsea/Siuslaw tribe is a distinct and separate tribe, and distinguished from the Alcea band of Tillamooks, which brought a land claim to the Indian Claims Commission in 1955.

At an unknown date, human remains representing a minimum of 16 individuals were removed from an unknown site near Pistol River, Curry County, OR. In 1970, Mrs. Dorothy Timeus donated the human remains to the museum. According to Mrs. Timeus, the human remains are Native American and were found in the sand dunes near the Pistol River. It is unknown if the human remains were removed by Mrs. Timeus. No known individuals were identified. No associated funerary objects are present.

A letter written by Mr. Harmon Timeus, Mrs. Timeus' son, states, “I have checked with several authorities concerning the Indian skulls and relics...they are all from the To-To-Tin tribe. There were many smaller groups of this tribe. The Chetl-essen-tans is the specific group which inhabited the land where the relics were found.” The authorities cited in the letter are unknown. The tribe mentioned in the letter is most likely the Chet-less-ing-ton Band of Too-too-to-ney tribe, who were located at the eddy of Pistol River in the 1800s. The Chet-less-ing-ton were signatories to the Oregon Coast Treaty of 1855 and by 1857 the Chet-less-ing-ton were residing on the reservation of the Confederated Tribes of the Siletz Reservation, Oregon (Harris, 1858). The Chet-less-ing-ton are a subgroup of the Athabaskan/Tututni, which is one of the member tribes of the Confederated Tribes of the Siletz Reservation, Oregon.

Officials of the Horner Collection, Oregon State University have determined that, pursuant to 25 U.S.C. 3001 (9-10), the human remains described above represent the physical remains of 17 individuals of Native American ancestry. Officials of the Horner Collection, Oregon State Unversity also have determined that, pursuant to 25 U.S.C. 3001 (2), there is a relationship of shared group identity that can be reasonably traced between the Native American human remains and the Confederated Tribes of the Siletz Reservation, Oregon.

Representatives of any other Indian tribe that believes itself to be culturally affiliated with the human remains should contact Sabah Randhawa Executive Vice President and Provost, President's Office, Oregon State University, 600 Kerr Administration Building, Corvallis, OR 97331, telephone (541) 737-8260, before November 25, 2005. Repatriation of the human remains to the Confederated Tribes of the Siletz Reservation, Oregon may proceed after that date if no additional claimants come forward.

Horner Collection, Oregon State University is responsible for notifying the Confederated Tribes of the Siletz Reservation, Oregon and Coquille Tribe of Oregon that this notice has been published.

Dated: September 28, 2005
Sherry Hutt,
Manager, National NAGPRA Program.

[FR Doc. 05-21332 Filed 10-25-05; 8:45 am]

BILLING CODE 4312-50-S